NATIONAL AERONAUTICS AND SPACE ADMINISTRATION

[Notice 11-049]

National Space-Based Positioning, Navigation, and Timing (PNT) Advisory Board; Meeting

AGENCY: National Aeronautics and Space Administration.

ACTION: Notice of meeting.

SUMMARY: In accordance with the Federal Advisory Committee Act (Pub. L. 92-463, as amended), and the President's 2004 U.S. Space-Based Positioning, Navigation, and Timing (PNT) Policy, the National Aeronautics and Space Administration announces a meeting of the National Space-Based Positioning, Navigation, and Timing (PNT) Advisory Board.

DATES: Thursday, June 9, 2011, 9 a.m. to 5 p.m.; and Friday, June 10, 2011, 9 a.m. to 1 p.m.

ADDRESSES: Sheraton Crystal City Hotel, 1800 Jefferson Davis Highway, Crystal V and VI, Arlington, Virginia 22202.

FOR FURTHER INFORMATION CONTACT: Mr. James J. Miller, Space Operations Mission Directorate, National Aeronautics and Space Administration, Washington, DC 20546, (202) 358-4417.

SUPPLEMENTARY INFORMATION: The meeting will be open to the public up to the seating capacity of the room. It is imperative that the meeting be held on these dates to accommodate the scheduling priorities of the key participants. Visitors will be requested to sign a visitor's register. The agenda for the meeting includes the following topics:

• Update on U.S. Space-Based PNT Policy and Global Positioning System (GPS) modernization.

• Explore opportunities for enhancing the interoperability of GPS with other emerging international Global Navigation Satellite Systems.

• Examine emerging trends and requirements for PNT services in U.S. and international arenas through PNT Board technical assessments.

• Prioritize current and planned GPS capabilities and services while assessing future PNT architecture options.

• Review GPS Standard Positioning Service Performance Standards and effects on non-ICD compliant receivers.

• Address future challenges to PNT service providers and users such as protecting the emerging role of PNT in cyber networks, including the need for back-ups.

Kathy Dakon,
Acting Director, Advisory Committee Management Division, National Aeronautics and Space Administration.

[FR Doc. 2011-12678 Filed 5-23-11; 8:45 am]

BILLING CODE P